DEPARTMENT OF HOUSING AND URBAN DEVELOPMENT

[Docket No. FR-4980-N-41]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5b-17, 5600 Fishers Lane, Rockville, MD 20857; (301 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed a suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: GSA: Mr. John Kelly, Acting Deputy Assistant Commissioner, General Services Administration, Office of Property Disposal, 18th and F Streets, NW., Washington, DC 20405; (202) 501-0084; INTERIOR: Ms. Linda Tribby, Acquisition & Property Management, Department of the Interior, 1849 C Street, NW., MS5512, Washington, DC 20240; (202) 219-0728; NAVY: Mr. Warren Meekins, Department of the Navy, Real Estate Services, Naval Facilities Engineering Command, Washington Navy Yard, 1322 Patterson Ave., SE., Suite 1000, Washington, DC 20374-5065; (202) 685-9305; (These are not toll-free numbers).

Dated: October 6, 2005.
Mark R. Johnston,
Office of Special Needs Assistance Programs.

Title V, Federal Surplus Property Program Federal Register Report for 10/14/2005

Suitable/Available Properties

Buildings (by State)

Kansas

BG William Menninger

Army Reserve Center

2101 Washington Street

Helena Co: Shawnee KS 66607-

Landholding Agency: GSA

Property Number: 54200540001

Status: Surplus

Comment: 46,870 sq. ft. main bldg., 4 storage bldgs., 5121 sq. ft. vehicle maintenance bldg., easement restrictions

GSA Number: 7-D-KS-0522

Maryland

F. Boy Scouts Shed

Tract 403-48

Boonsboro Co: Washington MD

Landholding Agency: Interior

Property Number: 61200540008

Status: Excess

Comment: 378 sq. ft., needs rehab, off-site use only

Former Sera House

Tract 405-66

Middletown Co: Frederick MD 21769-

Landholding Agency: Interior

Property Number: 61200540009

Status: Excess

Comment: 1480 sq. ft. residence, needs rehab, off-site use only

Former Sera Shed

Tract 405-66

Middletown Co: Frederick MD 21769-

Landholding Agency: Interior

Property Number: 61200540010

Status: Excess

Comment: 80 sq. ft., needs rehab, off-site use only

New Jersey

Former Mussina House

Tract 307-21

Wantage Co: Sussex NJ

Landholding Agency: Interior

Property Number: 61200540005

Status: Excess

Comment: 1747 sq. ft. residence, needs rehab, off-site use only

Former Mussina Garage

Tract 307-21

Wantage Co: Sussex NJ

Landholding Agency: Interior

Property Number: 61200540006

Status: Excess

Comment: 730 sq. ft., needs rehab, off-site use only

Former Mussina Shed

Tract 307-21

Wantage Co: Sussex NJ

Landholding Agency: Interior

Property Number: 61200540007

Status: Excess

Comment: 480 sq. ft., needs rehab, off-site use only

New Mexico

Federal Building

517 Gold Avenue, SW

Albuquerque Co: Bernalillo NM 87102-

Landholding Agency: GSA

Property Number: 54200540005

Status: Excess

Comment: 273,027 sq. ft., 8 floors + basement, top two floors structurally unsafe to occupy, 3 additional floors do not meet local code requirements for occupancy, presence of asbestos/lead paint

GSA Number: 7-G-NM-0588

New York

F. Baron-Sousa House

Tract 284-43

Warwick Co: Orange NY

Landholding Agency: Interior

Property Number: 61200540002

Status: Excess

Comment: 1122 sq. ft. residence, needs rehab, presence of asbestos, off-site use only

Former Fernau House

Tract 284-45

Warwick Co: Orange NY

Landholding Agency: Interior

Property Number: 61200540003

Status: Excess

Comment: 2963 sq. ft. residence, needs rehab, presence of asbestos, off-site use only

Former Fernau Garage

Tract 284-45

Warwick Co: Orange NY

Landholding Agency: Interior

Property Number: 61200540004

Status: Excess

Comment: 840 sq. ft., needs rehab, off-site use only

Oklahoma

Maintenance Site

Route 1

Tupelo Co: Coal OK 74572-

Landholding Agency: GSA

Property Number: 54200540003

Status: Excess

Comment: 5046 sq. ft. office, 2000 sq. ft. garage, 336 sq. ft. storage, easement restrictions

GSA Number: 7-B-OK-0571

Vermont

Former Border Station

70 Main Street

Newport Co: VT 05857—

Landholding Agency: GSA

Property Number: 54200540004

Status: Excess

Comment: 5015 sq. ft., most recent use—office, possible asbestos/lead paint

GSA Number: 1-F-VT-439

Unsuitable Properties

Buildings (by State)

California

Bldg. 1781

Marine Corps Base

Camp Pendleton Co: CA 92055-

Landholding Agency: Navy

Property Number: 77200540001

Status: Excess

Reasons: Secured Area Extensive deterioration

Bldgs. 76, 477, 720

Naval Air Station

Lemoore Co: CA 93246-

Landholding Agency: Navy

Property Number: 77200540002

Status: Unutilized

Reason: Extensive deterioration

Bldgs. 398, 399, 404

Naval Base Point Loma

San Diego Co: CA

Landholding Agency: Navy

Property Number: 77200540003

Status: Unutilized

Reason: Extensive deterioration

Bldgs. 388, 389, 390, 391

Naval Base Point Loma

San Diego Co: CA

Landholding Agency: Navy

Property Number: 77200540004

Status: Unutilized

Reason: Extensive deterioration

Illinois

Bldg. 2C

Naval Station

Great Lakes Co: IL 60088-2900

Landholding Agency: Navy

Property Number: 77200540005

Status: Excess

Reason: Secured Area

Michigan

Natl Biological Control Lab

2534 S. 11th Street

Niles Co: MI 49120-

Landholding Agency: GSA

Property Number: 54200540002

Status: Excess

Reason: Within 2000 ft. of flammable or explosive material

GSA Number: 1-A-MI-824

New Jersey

Facility No. 2

Naval Weapons Station

Cape May Co: NJ

Landholding Agency: Navy

Property Number: 77200540006

Status: Excess

Reason: Extensive deterioration

North Carolina

Bldg. 216

Tract 42-101

Blowing Rock Co: Watauga NC 28605-

Landholding Agency: Interior

Property Number: 61200540001

Status: Unutilized

Reason: Extensive deterioration

Texas

Bldg. 1732

Naval Air Station

Corpus Christi Co: Neuces TX

Landholding Agency: Navy

Property Number: 77200540007

Status: Excess

Reasons: Secured Area Extensive deterioration

[FR Doc. 05-20450 Filed 10-13-05; 8:45 am]

BILLING CODE 4210-29-M